DEPARTMENT OF LABOR

Employee Benefits Security Administration

Proposed Extension of Information Collection Request Submitted for Public Comment and Recommendations; Mental Health Parity

AGENCY: Employee Benefits Security Administration, Department of Labor.

ACTION: Notice.

SUMMARY: The Department of Labor, as part of its continuing effort to reduce paperwork and respondent burden, conducts a preclearance consultation program to provide the general public and other federal agencies with an opportunity to comment on proposed and continuing collections of information in accordance with the Paperwork Reduction Act of 1995 (PRA 95) (44 U.S.C. 3506(c)(2)(A)). This program helps to ensure that requested data is provided in the desired format, reporting burden (time and financial resources) is minimized, collection instruments are clearly understood, and the impact of collection requirements on respondents can be properly assessed.

By this notice, the Department of Labor's Employee Benefits Security Administration (EBSA) is soliciting comments on the extension of the information collection requests (ICRs) included in the Interim Rules for Mental Health Parity as published in the Federal Register on December 22, 1997 (62 FR 66931) (Interim Rules). OMB approved the two separate ICRs under OMB control numbers 1210-0105 and 1210-0106, which expire on January 31, 2008, and October 31, 2008, respectively. Copies of the ICRs may be obtained by contacting the office shown below in the addresses section of this notice.

DATES: Written comments must be submitted to the office listed in the addresses section on or before November 20, 2007.

ADDRESSES: Interested parties are invited to submit written comments regarding the ICRs to Mr. Joseph S. Piacentini, Office of Policy and Research, U.S. Department of Labor, Employee Benefits Security Administration, 200 Constitution Avenue, NW., Room N-5647, Washington, DC 20210. Telephone: (202) 219-8410. Fax: (202) 219-4745 (these are not toll-free numbers).

SUPPLEMENTARY INFORMATION:

I. Background

The purpose of this notice is to seek comments from the public prior to submission to OMB for continued approval of two information collection requests included in the Interim Final Rules. The Mental Health Parity Act of 1996 (MHPA) (Pub. L. 104-204) generally requires that group health plans provide parity in the application of dollar limits between mental health and medical/surgical benefits. The statute exempts plans from this requirement if its application results in an increase in the cost under the plan or coverage by at least one percent. The Interim Final Rules under 29 CFR 2590.712(f)(3)(i) and (ii) require a group health plan electing to take advantage of this exemption to provide a written notice to participants and beneficiaries and to the federal government of the plan's election. This notice requirement is approved under OMB control number 1210-0105. To satisfy the requirement to notify the federal government, a group health plan may either send the Department a copy of the summary of material reductions in covered services or benefits sent to participants and beneficiaries, or the plan may use the Department's model notice published in the Interim Final Rule which was developed for this purpose.

The second ICR, approved under OMB control number 1210-0106, is a summary of the information used to calculate the plan's increased costs under the MHPA for purposes of electing the one percent increased cost exemption. The plan is required to make a copy of the summary available to participants and beneficiaries, on request at no charge. Under 29 CFR 2590.712(f)(2), a group health plan wishing to elect the one percent exemption must calculate their increased costs according to certain rules.

II. Desired Focus of Comments

The Department of Labor is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Department intends to request an extension of the ICRs currently approved under control numbers 1210-0105 and 1210-0106 without change to the existing information collection provisions. Although MHPA requirements will not apply to benefits for services furnished on or after December 31, 2007, in accordance with the sunset provision of section 712(f) of ERISA, in order to ensure that participants and beneficiaries are aware of their rights under group health plans, the Department intends to maintain the clearance of the notice and disclosure provisions of MHPA through December 31, 2007 and until such time as the sunset provision has taken effect without additional Congressional action that would have the effect of extending the duration of MHPA's applicability.

Type of Review: Extension of a currently approved collection.

Agency: U.S. Department of Labor, Employee Benefits Security Administration.

Title: Notice to Participants and Beneficiaries and the Federal Government of Electing One Percent Increased Cost Exemption.

OMB Number: 1210-0105.

Affected Public: Individuals or households; Business or other for-profit; Not-for-profit institutions.

Frequency: On occasion.

Respondents: 10.

Responses: 10,000.

Estimated burden hours (Operating and Maintenance): 333.

Estimated burden costs: $5,000.

Title: Calculation and Disclosure of Documentation of Eligibility for Exemption.

OMB Number: 1210-0106.

Affected Public: Individuals or households; Business or other for-profit; Not-for-profit institutions.

Frequency: On occasion.

Respondents: 10.

Responses: 200.

Estimated burden hours (Operating and Maintenance): 10.

Estimated burden costs: $100.

Comments submitted in response to this notice will be summarized and/or included in the request for OMB approval of the ICRs; they will also become a matter of public record.

Dated: September 13, 2007.
Joseph S. Piacentini,
Director, Office of Policy and Research, Employee Benefits Security Administration.

[FR Doc. E7-18514 Filed 9-20-07; 8:45 am]

BILLING CODE 4510-29-P